DEPARTMENT OF LABOR

Employment and Training Administration

Amended Certification Regarding Eligibility To Apply for Worker Adjustment Assistance

TA-W-71,287 | MASCO BUILDER CABINET GROUP INCLUDING ON-SITE LEASED WORKERS FROM RESERVES NETWORK AND RELIABLE STAFFING, JACKSON, OHIO.
TA-W-71,287A | MASCO BUILDER CABINET GROUP INCLUDING ON-SITE LEASED WORKERS FROM RESERVES NETWORK AND RELIABLE STAFFING WAVERLY, OHIO.
TA-W-71,287B | MASCO BUILDER CABINET GROUP INCLUDING ON-SITE LEASED WORKERS FROM RESERVES NETWORK AND RELIABLE STAFFING SEAL TOWNSHIP, OHIO.
TA-W-71,287C | MASCO BUILDER CABINET GROUP INCLUDING ON-SITE LEASED WORKERS FROM RESERVES NETWORK AND RELIABLE STAFFING, SEAMAN, OHIO.

In accordance with Section 223 of the Trade Act of 1974, as amended (“Act”), 19 U.S.C. 2273, the Department of Labor issued a Certification of Eligibility to Apply for Worker Adjustment Assistance on October 16, 2009, applicable to workers of Masco Builder Cabinet Group including on-site leased workers from Reserves Network, Jackson, Ohio. The workers produce cabinets and cabinet frames. The notice was published in the Federal Register on December 11, 2009 (74 FR 65797). The notice was amended on December 22, 2010 to include other company locations. The notice was published in the Federal Register on January 12, 2011 (76 FR 2145).

At the request of the State agency, the Department reviewed the certification for workers of the subject firm. The company reports that workers leased from Reserves Network and Reliable Staffing were employed at the Jackson, Waverly, Seal Township, and Seaman, Ohio locations of Masco Building Cabinet Group. The Department has determined that these workers were sufficiently under the control of Masco Builder Cabinet Group to be considered leased workers.

Based on these findings, the Department is amending this certification to include workers leased from Reserves Network and Reliable Staffing working on-site at the Jackson, Waverly, Seal Township and Seaman, Ohio, locations of Masco Builder Cabinet Group.

The amended notice applicable to TA-W-71,287 is hereby issued as follows:

“All workers of Masco Builder Cabinet Group, including on-site leased workers from Reserves Network and Reliable Staffing, Jackson, Ohio (TA-W-71,287), Waverly, Ohio (TA-W-71,287A), Seal Township, Ohio (TA-W-71,287B) and Seaman, Ohio (TA-W-71,287C) who became totally or partially separated from employment on or after June 11, 2008, through October 16, 2011, and all workers in the group threatened with total or partial separation from employment on the date of certification through two years from the date of certification, are eligible to apply for adjustment assistance under Chapter 2 of Title II of the Trade Act of 1974, as amended.”

Signed at Washington, DC this 24th day of February, 2011.
Michael W. Jaffe,
Certifying Officer, Office of Trade Adjustment Assistance.

[FR Doc. 2011-5479 Filed 3-9-11; 8:45 am]

BILLING CODE 4510-FN-P